DEPARTMENT OF JUSTICE

Office of Justice Programs

28 CFR Part 94

[Docket No. OJP (OVC) 1808]

RIN 1121-AA89

Victims of Crime Act Victim Compensation Grant Program; Withdrawal

AGENCY: Office for Victims of Crime, Office of Justice Programs, Justice.

ACTION: Withdrawal of proposed rule.

SUMMARY: The Office of Justice Programs (“OJP”), a bureau of the Department of Justice and the component under which the Office for Victims of Crime (“OVC”) resides, is withdrawing a proposed rule that was published in the Federal Register on February 5, 2024, which proposed to add a subpart to its regulations to replace the existing Victim Compensation Program Guidelines under the Victims of Crime Act, and update and codify requirements for that Program.

DATES: As of January 6, 2025, the proposed rule that was published in the Federal Register on February 5, 2024 (89 FR 7639), is withdrawn.

FOR FURTHER INFORMATION CONTACT: Kathrina Peterson, Senior Policy Advisor, Office for Victims of Crime at (202) 616-3579 (please note that this is not a toll-free number).

SUPPLEMENTARY INFORMATION: The Victim Compensation Program is authorized by the Victims of Crime Act of 1984, 34 U.S.C. 20102, and supports an annual grant to each state and several territories to support their victim compensation programs. On February 5, 2024, the Office of Justice Programs (OJP) published a notice of proposed rulemaking (NPRM) in the Federal Register proposing to add a subpart to its regulations to replace the existing Victim Compensation Program Guidelines, published on May 16, 2001, at 66 FR 27158, and update and codify requirements for that Program. In response to the NPRM, OJP received several thousand comments on the proposed rule.

In light of the diversity and abundance of feedback received in response to the NPRM, OJP has identified the need for additional consideration of topics addressed in this rulemaking. Given the scope of comments and the limited time remaining in the current Administration, OJP has decided to withdraw the NPRM and terminate the rulemaking, leaving the existing Victim Compensation Program Guidelines in place, and ensuring that the agency can benefit from the latest information on these issues when exploring options with stakeholders in the future.

OJP does not intend to issue a final rule based on this published NPRM. Despite the decision not to move forward with the rule at this time, OJP and its component Office for Victims of Crime (OVC) are grateful for the effort, thought, and insights evident in the comments on the proposed rule, especially those provided by crime victims and survivors who shared their personal stories and perspectives. OJP and OVC will continue engaging with their stakeholders as they undertake the work of enhancing care and expanding access to compensation for all victims of crime. In the event OJP and OVC may ultimately conclude that a new rulemaking action would be appropriate, a new NPRM would be published in the Federal Register at that time.

Brent J. Cohen,
Acting Assistant Attorney General, Office of Justice Programs.

[FR Doc. 2024-31012 Filed 1-3-25; 8:45 am]

BILLING CODE 4410-18-P